NATIONAL AERONAUTICS AND SPACE ADMINISTRATION

[Notice (20-087)]

Performance Review Board, Senior Executive Service (SES)

AGENCY: National Aeronautics and Space Administration (NASA).

ACTION: Notice of membership of SES Performance Review Board.

SUMMARY: The Civil Service Reform Act of 1978 requires that appointments of individual members to the Performance Review Board (PRB) be published in the Federal Register.

The performance review function for the SES in NASA is being performed by the NASA PRB.

SUPPLEMENTARY INFORMATION: The following individuals are serving on the Board:

Performance Review Board

Chairperson, Associate Administrator, NASA Headquarters

Deputy Associate Administrator, NASA Headquarters

Chief Human Capital Center, NASA Headquarters

Director, Executive Services, NASA Headquarters

Associate Administrator for Science Mission Directorate, NASA Headquarters

Associate Administrator for Diversity and Equal Opportunity, NASA Headquarters

Chief Financial Officer, NASA Headquarters

Center Director, NASA Marshall Space Flight Center

Deborah F. Bloxon,
Federal Register Liaison Officer.

[FR Doc. 2020-23547 Filed 10-22-20; 8:45 am]

BILLING CODE 7510-13-P